DEPARTMENT OF ENERGY

Federal Energy Regulatory Commission

[Project No. 516-459]

South Carolina Electric and Gas Company, South Carolina; Notice of Availability of Environmental Assessment

July 20, 2010.

In accordance with the National Environmental Policy Act of 1969 and the Federal Energy Regulatory Commission's (Commission or FERC's) regulations, 18 Code of Federal Regulations (CFR) part 380 (Order No. 486, 52 Federal Register [FR] 47897), the Office of Energy Projects has reviewed South Carolina Electric and Gas Company's application for license for the Saluda Hydroelectric Project (FERC Project No. 516), located on the Saluda River in Richland, Lexington, Saluda, and Newberry counties, near Columbia, South Carolina. The project does not occupy any Federal lands.

This environmental assessment (EA) contains staff's analysis of the potential environmental effects of the project and concludes that licensing the project, with appropriate environmental protective measures, would not constitute a major federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov; toll-free at 1-866-208-3676, or for TTY, 202-502-8659.

For further information, contact Lee Emery by telephone at (202) 502-8379, or by e-mail at lee.emery@ferc.gov.

Kimberly D. Bose,
Secretary.

[FR Doc. 2010-18283 Filed 7-26-10; 8:45 am]

BILLING CODE 6717-01-P